DEPARTMENT OF JUSTICE

Office of Juvenile Justice and Delinquency Prevention

[OJP (OJJDP)-1287]

Program Announcements for OJJDP's Fiscal Year 2000 Gang-Free Schools and Communities Initiative

AGENCY: Office of Justice Programs, Office of Juvenile Justice and Delinquency Prevention (OJJDP), Justice.

ACTION: Notice of solicitations.

SUMMARY: The Office of Juvenile Justice and Delinquency Prevention (OJJDP) is requesting applications for two new programs to address the youth gang problem and one new evaluation program under its Fiscal Year 2000 Gang-Free Schools and Communities Initiative. This initiative represents a collaboration between the U.S. Department of Justice and the U.S. Departments of Education, Health and Human Services, Labor, and Treasury. The two new programs are the Gang-Free Communities Program and the Comprehensive Gang Model: An Enhanced School/Community Approach to Reducing Youth Gang Crime Program. An evaluation of the second program, An Enhanced School/Community Approach, will also be competitively awarded.

DATES: Applications for two of the three programs (the Gang-Free Communities Program and the National Evaluation of the Comprehensive Gang Model: An Enhanced School/Community Approach to Reducing Youth Gang Crime) are due by 5 p.m. ET on Friday, September 1, 2000. The due date for applications for the Comprehensive Gang Model: An Enhanced School/Community Approach to Reducing Youth Gang Crime is 5 p.m. ET on Friday, September 15, 2000.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the three program announcements (which are contained in one document) and the OJJDP Application Kit from the Juvenile Justice Clearinghouse at 800-638-8736. The program announcements are also available on OJJDP's Web site at www.ojjdp.ncjrs.ogr (click on “Grants & Funding” for the program announcements). The Application Kit is available online at www.ojjdp.ncjrs.org/grants/about.html#kit. (See the “Format” section in each program announcement for instructions on application standards.)

FOR FURTHER INFORMATION CONTACT: Jim Burch, Gang Programs Coordinator, Office of Juvenile Justice and Delinquency Prevention, 202-307-5914, or (for the National Evaluation of OJJDP's Comprehensive Gang Model: An Enhanced School/Community Approach to Reducing Youth Gang Crime) Phelan Wyrick, Program Manager, Research and Policy Development Division, Office of Juvenile Justice and Delinquency Prevention, at 202-353-9254. [These are not toll-free numbers.]

SUPPLEMENTARY INFORMATION:

Authority This action is authorized under Title II, Part D, of the Juvenile Justice and Delinquency Prevention Act of 1974, as amended (42 U.S.C. 5601 et seq.).

Background

In 1998, more than 4,000 urban, suburban, and rural communities in the United States were experiencing youth gang problems. More than 30,000 youth gangs and 800,000 youth gang members were reported in the most recent systematic, annual nationwide survey of law enforcement agencies conducted by OJJDP's National Youth Gang Center.

Research findings from OJJDP and the National Institute of Justice (NIJ) suggest that youth gangs continue to present a serious threat to public safety, despite the recent downturn in juvenile crime. OJJDP's Program of Research on the Causes and Correlates of Delinquency found that youth who are involved in youth gangs commit three to seven times as many delinquent and criminal offenses as youth who are not gang involved. The studies found this trend holds true even when comparing gang youth to nongang youth who were delinquents. Involvement with the juvenile and criminal justice systems is usually not a new experience for youth who join gangs. Many of these youth not only have come into previous contact with the justice system, but in many cases have also been involved in or in need of child protective, mental health, and other services. These youth are known to experience significant risk factors in numerous domains and pose a threat not only to their own safety, but to the safety of their families and their communities as well.

The threat of gang crime and violence is not limited to the streets. According to the 1998 National Youth Gang Survey, 40 percent of youth gang members in the United States are estimated to be under age 17. Presumably, most of these youth are still in school. The percentage of public school students who reported that gangs were present in their schools nearly doubled from 17 percent in 1989 to 31 percent in 1995, according to the U.S. Departments of Education and Justice. Thus, youth gang activity is also a threat to the very place sometimes assumed to be free from safety threats: the classrooms. These issues present a continuing need for communities to seek progressive and promising approaches to address the problem.

The purpose of the Gang-Free Communities Program is to provide up to 12 communities an opportunity to implement the OJJDP Comprehensive Gang Model as a way of addressing its local youth gang problem. The purpose of the second program, which is jointly sponsored by the U.S. Department of Education's Office of Safe and Drug Free Schools, and the U.S. Department of Health and Human Services' Center for Mental Health Services, is to provide up to four communities an opportunity to assist in developing and implementing the OJJDP Comprehensive Gang Model and enhancing the Model's school component. The evaluation effort will focus on the latter program in order to measure its success. Under each program, the initial funding year will consist of a planning and assessment process to better identify the youth gang problem locally and to better develop a plan for addressing the problem(s) using the OJJDP Model.

Dated: June 27, 2000.
John J. Wilson,
Acting Administrator, Office of Juvenile Justice and Delinquency Prevention.

[FR Doc. 00-16712 Filed 7-10-00; 8:45 am]

BILLING CODE 4410-18-P